FEDERAL COMMUNICATIONS COMMISSION

47 CFR Part 24

[WT Docket No. 97-82; FCC 03-98]

Competitive Bidding Procedures

AGENCY: Federal Communications Commission.

ACTION: Final rule; correction.

SUMMARY: On July 21, 2003, (68 FR 42984), the Wireless Telecommunications Bureau published final rules in the Order, addressing five petitions for reconsideration filed in response to the Commission's Part 1 Order on Reconsideration of the Third Report and Order, and Fifth Report and Order.

DATES: Effective September 19, 2003.

FOR FURTHER INFORMATION CONTACT: Gary Michaels, Auctions and Industry Analysis Division, Wireless Telecommunications Bureau, at (202) 418-0660.

SUPPLEMENTARY INFORMATION: The Wireless Telecommunications Bureau published a document revising the general competitive bidding rules for all auctionable services in the Federal Register of July 21, 2003 (68 FR 42984). This document corrects the Federal Register as it appeared.

In rule FR Doc. 03-18430 published on July 21, 2003 (68 FR 42984) make the following correction:

1. On page 42999, in the third column and on line 19, instruction 29 is corrected to read as follows:

§ 24.720 [Corrected]

29. Amend § 24.720 by removing paragraphs (b)(3), (b)(4), (c), and (d), redesignating paragraphs (e), (f), (g), (h), (i), and (j) as paragraphs (c), (d), (e), (f), (g), and (h), redesignating the Note to Paragraph (j) as the Note to Paragraph (h) and revising paragraph (b) introductory text and newly redesignated paragraph (g) to read as follows:

Federal Communications Commission.
Marlene Dortch,
Secretary.

[FR Doc. 03-25245 Filed 10-6-03; 8:45 am]

BILLING CODE 6712-01-P